DEPARTMENT OF THE TREASURY

Submission for OMB Review; Comment Request

February 13, 2012.

The Department of the Treasury will submit the following information collection request to the Office of Management and Budget (OMB) for review and clearance in accordance with the Paperwork Reduction Act of 1995, Public Law 104-13, on or after the date of publication of this notice.

DATES: Comments should be received on or before March 19, 2012 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.GOV and (2) Treasury PRA Clearance Officer, 1750 Pennsylvania Ave. NW., Suite 11020, Washington, DC 20220, or on-line at www.PRAComment.gov.

FOR FURTHER INFORMATION CONTACT: Copies of the submission(s) may be obtained by calling (202) 927-5331, email at PRA@treasury.gov, or the entire information collection request may be found at www.reginfo.gov.

Internal Revenue Service (IRS)

OMB Number: 1545-1004.

Type of Review: Extension without change of a currently approved collection.

Title: U.S. Income Tax Return for Real Estate Investment Trusts.

Form: 1120-REIT.

Abstract: Form 1120-REIT is filed by a corporation, trust, or association electing to be taxed as a REIT in order to report its income, and deductions, and to compute its tax liability. IRS uses Form 1120-REIT to determine whether the REIT has correctly reported its income, deductions, and tax liability.

Affected Public: Private Sector: Businesses or other for-profits.

Estimated Total Burden Hours: 142,203.

OMB Number: 1545-1029.

Type of Review: Extension without change of a currently approved collection.

Title: Low-Income Housing Credit Disposition Bond or Treasury Direct Account Application.

Form: 8693.

Abstract: Form 8693 is needed per IRC section 42(j)(6) to post bond or establish a Treasury Direct Account and waive the recapture requirements under section 42(j) for certain disposition of a building on which the low-income housing credit was claimed. Internal Revenue regulations section 301.7101-1 requires that the posting of a bond must be done on the appropriate form as determined by the Internal Revenue Service.

Affected Public: Private Sector: Businesses or other for-profits.

Estimated Total Burden Hours: 3,589.

OMB Number: 1545-1511.

Type of Review: Extension without change of a currently approved collection.

Title: REG-209828-96 (TD 8758—Final) Nuclear Decommissioning Funds; Revised Schedules of Ruling Amounts.

Abstract: The regulations revise the requirements for requesting a schedule of ruling amounts based on a formula or method.

Affected Public: Private Sector: Businesses or other for-profits.

Estimated Total Burden Hours: 100.

Dawn D. Wolfgang,
Treasury PRA Clearance Officer.

[FR Doc. 2012-3658 Filed 2-15-12; 8:45 am]

BILLING CODE 4830-01-P